DEPARTMENT OF ENERGY

10 CFR Part 431

RIN 1904-AC62

Efficiency and Renewables Advisory Committee, Appliance Standards Subcommittee, Negotiated Rulemaking Subcommittee/Working Group for Low-Voltage Dry-Type Distribution Transformers

AGENCY: Department of Energy, Office of Energy Efficiency and Renewable Energy.

ACTION: Notice of open meeting.

SUMMARY: This document announces an open meeting of the Negotiated Rulemaking Working Group for Low-Voltage Dry-Type Distribution Transformers (hereafter “LV Group”). The LV Group is a working group within the Appliance Standards Subcommittee of the Efficiency and Renewables Advisory Committee (ERAC). The purpose of the LV Group is to discuss and, if possible, reach consensus on a proposed rule for regulating the energy efficiency of distribution transformers, as authorized by the Energy Policy Conservation Act (EPCA) of 1975, as amended, 42 U.S.C. 6313(a)(6)(C) and 6317(a). A separate Working Group on Liquid-Immersed and Medium-Voltage Dry Type Distribution Transformers is being convened to discuss and, if possible, reach consensus on a proposed rule for regulating the energy efficiency of medium-voltage and liquid-immersed transformers, as authorized by the Energy Policy Conservation Act (EPCA) of 1975, as amended, 42 U.S.C. 6313(a)(6)(C) and 6317(a) [FR Doc. 2011-19263].

DATES: Wednesday, September 28, 2011, 9 a.m.-5 p.m.

ADDRESSES: Department of Energy, Forrestal Building, 1000 Independence Avenue, SW., Room 8E-089, Washington, DC 20585. Please arrive at least 30 minutes early for building entry requirements. Please view the Public Participation section for more information.

FOR FURTHER INFORMATION CONTACT: John Cymbalsky, U.S. Department of Energy, Office of Building Technologies (EE-2J), 1000 Independence Avenue, SW., Washington, DC 20585-0121. Telephone: (202) 287-1692. E-mail: John.Cymbalsky@ee.doe.gov.

SUPPLEMENTARY INFORMATION: Background: The Department of Energy has decided to use the negotiated rulemaking process to develop proposed energy efficiency standards for distribution transformers. The primary reasons for using the negotiated rulemaking process for developing a proposed Federal standard is that stakeholders strongly support a consensual rulemaking effort and DOE believes such a regulatory negotiation process will be less adversarial and better suited to resolving the complex technical issues raised by this rulemaking. An important virtue of negotiated rulemaking is that it allows expert dialog that is much better than traditional techniques at getting the facts and issues right and will result in a proposed rule that will effectively reflect Congressional intent.

A regulatory negotiation will enable DOE to engage in direct and sustained dialog with informed, interested, and affected parties when drafting the proposed regulation that is then presented to the public for comment. Gaining this early understanding of all parties' perspectives allows DOE to address key issues at an earlier stage of the process, thereby allowing more time for an iterative process to resolve issues. A rule drafted by negotiation with informed and affected parties is more likely to maximize benefits while minimizing unnecessary costs than one conceived or drafted without the opportunity for sustained dialog among interested and expert parties. DOE anticipates that there will be a need for fewer substantive changes to a proposed rule developed under a regulatory negotiation process prior to the publication of a final rule.

To the maximum extent possible, consistent with the legal obligations of the Department, DOE will use the consensus of the advisory committee or subcommittee as the basis for the rule the Department proposes for public notice and comment.

Membership: The Members of the LV Group were chosen from nominations submitted in response to the Department of Energy's call for nominations published in the Federal Register on Friday, August 12, 2011 [FR Doc. 2011-20541]. The selections are designed to ensure a broad and balanced array of stakeholder interests and expertise on the negotiating working group for the purpose of developing a rule that is legally and economically justified, technically sound, fair to all parties, and in the public interest. All meetings are open to all stakeholders and the public, and participation by all is welcome within boundaries as required by the orderly conduct of business. Considerations are still being made for additional membership, but the current Members of the LV Group are as follows:

• Tim Ballo (Earthjustice).

• Scott Beck (Lakeview Metals).

• Eric Petersen (AK Steel).

• Gary Fernstrom (PG&E).

• Andrew DeLaski (ASAP).

• Robin Roy (NRDC).

• Steve Nadel (ACEEE).

• Eduardo Robles (Eaton).

• Robert Greeson (Federal Pacific).

• Vijay Tendulkar (ONYX Power).

• Chad Kennedy (Schneider).

• John Caskey (NEMA).

• Millure David (Metglas).

• John Cymbalsky (U.S. Department of Energy).

• Mark Stoering (Xcel Energy).

Purpose of the Meeting: To launch the process of seeking consensus on a proposed rule for setting standards for the energy efficiency of low-voltage dry type distribution transformers, as authorized by the Energy Policy Conservation Act (EPCA) of 1975, as amended, 42 U.S.C. 6313(a)(6)(C) and 6317(a).

Tentative Agenda: The meeting will start at 9 a.m. and will conclude at 5 p.m. on Wednesday, September 28, 2011, in room 8E-089 at DOE's, Forrestal Building, 1000 Independence Avenue, SW., Washington, DC 20585. The tentative meeting agenda includes introductions, agreement on facilitator and rules of procedure, presentations from DOE consultants on the results of their revised analysis of alternative candidate standard levels, and identification of the issues to be addressed by the negotiations, and any outstanding data needs.

Public Participation: Members of the public are welcome to observe the business of the meetings and to make comments related to the issues being discussed at appropriate points, when called on by the moderator. The facilitator will make every effort to hear the views of all interested parties, within limits, required for the orderly conduct of business. To attend the meeting and/or to make oral statements regarding any of the items on the agenda, e-mail erac@ee.doe.gov no later than 5 p.m., Thursday, September 22, 2011. Please include “LV Work Group 092811” in the subject line of the message. An early confirmation of attendance will help facilitate access to the building more quickly. In the e-mail, please provide your name, organization, citizenship and contact information. Space is limited.

Anyone attending the meeting will be required to present government-issued identification. Foreign nationals will be required, per DOE security protocol, to complete a questionnaire, no later than, one week prior to the meeting, Thursday, September 22, 2011.

Participation in the meeting is not a prerequisite for submission of written comments. ERAC invites written comments from all interested parties. If you would like to file a written statement with the committee, you may do so either by submitting a hard or electronic copy before or after the meeting. Electronic copy of written statements should be e-mailed to erac@ee.doe.gov.

Minutes: The minutes of the meeting will be available for public review at http://www.erac.energy.gov.

Issued at Washington, DC, on September 8, 2011.
LaTanya R. Butler,
Acting Deputy Committee Management Officer.

[FR Doc. 2011-23634 Filed 9-14-11; 8:45 am]

BILLING CODE 6450-01-P